DEPARTMENT OF STATE

[Public Notice 6171]

Bureau of Educational and Cultural Affairs (ECA) Request for Grant Proposals: Youth Exchange and Study (YES) Program

Announcement Type: New Grant.

Funding Opportunity Number: ECA/PE/C/PY-08-27.

Catalog of Federal Domestic Assistance Number: 00.000

Key Dates: September 1, 2008-September 30, 2011.

Application Deadline: May 29, 2008.

Executive Summary: The Office of Citizen Exchanges of the Bureau of Educational and Cultural Affairs (ECA) announces an open competition for grants to support exchanges and relationship building between high school students from countries with significant Muslim populations and people of the United States. Public and private non-profit organizations meeting the provisions described in Internal Revenue Code section 26 U.S.C. 501(c)(3) and public institutions may submit proposals to recruit and select students and to carry out projects for an academic year or semester of study in the United States, incorporating themes promoting civil society, leadership, and mutual understanding.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose

The Youth Exchange and Study (YES) program is designed to foster a global community of shared interests and values developed through better mutual understanding via first-hand participation of high school students, preferably aged 15-17, from countries with significant Muslim populations in academic year or semester exchanges to the United States. The program seeks to select students with leadership potential, to develop their leadership skills while in the U.S., and to support them in alumni activities after they return home.

The overarching goals of the program are to:

1. Promote better understanding by youth from selected countries about American society, people, institutions, values and culture;

2. Foster lasting personal ties;

3. Engage the exchange participants in activities that advance mutual understanding, respect for diversity, leadership skills, and understanding of civil society during their exchange in the U.S.;

4. Enhance Americans' understanding of the foreign students' countries and cultures;

5. Increase the capacity of organizations in participating countries to engage youth in activities that enhance mutual understanding, respect for diversity, leadership skills, and understanding of civil society through alumni activities.

Grant Funding History

This initiative is intended to build on a solid foundation of exchanges carried out since the program began with grants awarded in FY 2002 to bring students to the U.S. in the fall of 2003. The first competition for the YES program was conducted in 2002 and grants awarded were subsequently renewed in FY 2003 and FY 2004. The second competition for grants to assist ECA in expanding the reach of the program was conducted in FY 2005, and the grants awarded were subsequently renewed in FY 2006 and FY 2007. In this third competition, ECA encourages applicants to apply as it continues expansion of the program both in the number of students and the number of countries participating. The YES program has grown incrementally each year from approximately 165 students from 11 countries in 2003-04 to 850 students from over 30 countries anticipated in 2008-09.

Through this open competition ECA seeks to provide awards to fund approximately 1,000 students from an expanded list of countries to participate in the program during the 2009-2010 academic year. Applicants that have not participated in the YES program previously are encouraged to view the program's Web site at: http://exchanges.state.gov/education/citizens/students/programs/yes.htm and to contact the Youth Division Program Office representatives listed in this solicitation.

Scope of Program, Timeline, and Applicant Infrastructure

Funding for the YES program will support academic year-long exchanges (between August 2009 and June 2010) with students enrolled in accredited U.S. schools and living with host families. Proposals for single semester exchanges (fall 2009 or spring 2010) may be proposed only for partner countries where the academic year is not compatible with the U.S. academic calendar.

It is anticipated that awards will be concluded in September 2008, with marketing, recruitment, selection of students and exchange program planning taking place throughout the 2008-2009 period. Grantees will be required to incur expenses beginning before September 30, 2008.

Given current U.S. visa processing timelines in some countries, students must be selected early enough to allow up to six months between the visa interview date and the date of departure for students to obtain visas in time for an August 2009 arrival. Grantees must work with the U.S. Embassy in each country to ensure timely processing of U.S. visas for all participants.

Most student participants will arrive in their U.S. host communities during the month of August 2009 and remain for 10 or 11 months until their departure during the period of mid-May to early July 2010. August post-arrival and June pre-departure orientations for students in Washington, DC at the beginning and end of the program are encouraged. If such orientations in Washington, DC are proposed, applicants must coordinate travel and activity dates with ECA to allow opportunity for students to meet with Department of State officials and possibly with other groups of YES students. For countries where the standard of English instruction does not provide an adequate qualified applicant pool, selected students requiring additional language instruction may arrive earlier if additional preparation in the U.S. is necessary; alternatively, applicants may propose in-country or third-country language preparation and orientation prior to the students' arrival in the U.S. During the exchange period, students will participate in activities designed to teach them about American community life and values, citizen participation in a democracy, respect for diversity, and U.S. culture. Participants will have opportunities to give presentations on their countries and cultures in community forums. Therefore, students must be prepared beforehand on how to present information on their home countries.

ECA will accept proposals for either multiple-country or single-country programs. Applicants proposing multiple-country programs should include in their appendices additional country specific information about staffing, recruitment strategies, and details that may be unique to each country.

ECA will accept proposals from individual organizations with adequate infrastructure in both the U.S. and the partner country(ies) to conduct all aspects of the program, or from organizations that have formed consortia with qualified organizations or representatives to implement specified tasks to complete the project. In the latter case, the applicant must have a significant role in implementing either the U.S. or overseas component of the programs and meet all eligibility criteria discussed in this solicitation.

Applicants may propose value-added programming for students as long as it directly supports YES program objectives, themes, and goals, including full time school enrollment and enhancement activities related to the YES program mission. Examples could include special workshops or student projects focused on issues particularly relevant in the students' home country or region.

Applicants may not propose names other than “Youth Exchange and Study” (YES) for their program, so that all student participants and alumni will identify themselves first and foremost with the YES program. All materials produced for grant activities should bear the YES logo, acknowledge the Department of State as the funding source and reflect the State Department's objectives for the program. An exception to this requirement can only be made upon agreement from ECA and the U.S. Embassy in the respective countries.

The YES program is for all students from countries with significant Muslim populations. It is not, however, limited to Muslim students. It is ECA's expectation that the participants from each country will collectively reflect the religious, ethnic, socio-economic, and geographic diversity of their country, to the extent possible. In order to support cross-cultural communication and understanding, ECA encourages applicants to request funding for specially-skilled consultants. These consultants will provide training for grantee staff and volunteers to develop printed and online resource materials that support the unique cultural needs of their YES students, and offers services such as an on-call resource for staff, volunteers, host and natural families, and to provide students with support.

Eligible Countries

The partner countries for this program have been selected based on several factors: (1) Foreign policy considerations, (2) a favorable climate for exchange, and (3) anticipated recruitment and placement capacity for students from the listed country. The first list includes the countries that are currently participating in the YES program. An approximate target number of students is indicated for each country based on the experience of previous years and/or anticipated capacities for successful recruitment and placement. Proposals should be for at least the targeted number:

Afghanistan (50)

Bahrain (10)

Bangladesh (40)

Brunei (10)

Egypt (50)

Ethiopia (10)

Gaza (10)

Ghana (25)

India (45)

Indonesia (100)

Iraq (20)

Israel (Arab Communities) (20)

Jordan (30)

Kenya (20)

Kuwait (18)

Lebanon (50)

Malaysia (40)

Mali (10)

Morocco (25)

Nigeria (30)

Oman (15)

Pakistan (70)

Philippines (40)

Qatar (7)

Saudi Arabia (20)

Senegal (10)

Tanzania (30)

Thailand (20)

Tunisia (20)

Turkey (40)

West Bank (15)

Yemen (35)

In addition to the these countries currently involved in the YES program, ECA is requesting proposals to implement the YES program in the following new countries, with students to participate for the first time in 2009-10. Again, an approximate target number of students is indicated for each country.

Albania (15)

Bosnia and Herzegovina (15)

Bulgaria (7)

Burkina Faso (5)

Cote d'Ivoire (5)

Gambia (10)

Guinea (5)

Guyana (5)

Kosovo (7)

Macedonia (15)

Maldives (2)

Mauritania (5)

Mozambique (5)

Niger (5)

Sierra Leone (5)

Suriname (5)

Togo (5)

Uganda (10)

The Bureau reserves the right to amend this list at any time as conditions change. Should an applicant have questions in regards to countries on this list or an interest in proposing an exchange with additional countries not on this list, please contact the Bureau. (See Section IV.1 for contact information.)

Only one organization will be awarded a grant to implement the program in each country.

General Responsibilities

The grantee organization will be responsible for all aspects of the YES Program's implementation, including marketing, recruitment, and selection of students, procurement of U.S. visas and transit visas as required, transportation to and from the U.S., host family and school placement of students, orientations of students, natural and host families, support of students throughout the year, and follow-on alumni activities for returning students. The responsibilities of grantees are described in further detail in the accompanying Program Objectives, Goals, and Implementation (POGI) document.

• To recruit, select, and place high school students from countries with significant Muslim populations in qualified, screened, and well-motivated and financially-able host families.

• To provide extensive orientation of students to the program prior to their coming to the U.S. English language training may also be provided to encourage diversity in the selection pool and as needed, to meet projected recruitment levels.

• To provide post-arrival, mid-year, and pre-departure orientations to students to address program rules and goals and to provide support to students while in the U.S.

• To place students in schools that are accredited by the departments of education in the respective state.

• To expose program participants to American culture and civil society through homestay experiences and enhancement activities that will enable them to attain a broad view of the society and culture of the U.S.

• To expose YES program participants to opportunities for volunteerism and community service that respond to the needs of the host community.

• To prepare YES program participants to share their culture, lifestyle, and traditions with U.S. citizens throughout their stay and during special international events that highlight exchanges such as International Education Week and Global Youth Service Day.

• To provide YES students with leadership training and opportunities that will foster skills they can take back with them and use in their home countries.

• To provide activities that will increase and enhance students' understanding of the importance of tolerance and respect for the views, beliefs, and practices of others in a diverse society.

• To develop alumni databases and create alumni programs giving opportunities for returning students to incorporate their knowledge and skills into service in their home countries.

Through participation in the YES program, students should:

1. Acquire an understanding of important elements of a civil society. This includes concepts such as volunteerism, the idea that American citizens can and do act at the grassroots level to deal with societal problems, and an awareness of and respect for the rule of law.

2. Develop an appreciation for American culture, an understanding of the diversity of American society and increased respect for diversity, and appreciation for others with differing views, beliefs and practices.

3. Interact with Americans and generate enduring ties.

4. Teach Americans about the cultures of their home countries.

5. Gain leadership capacity that will enable them to initiate and support activities in their home countries that focus on development and community service in their role as YES alumni.

Further Considerations

1. There is no minimum or maximum number of students that may be selected and placed by one organization; however cost effectiveness will be a review criterion in all applications. It is anticipated that approximately 5-7 grants will be awarded for the YES program. Placements may be in any region in the U.S. Strong preference will be given to organizations that choose to place participants in clusters of at least three ECA funded academic year students to facilitate program enhancement activities. Applicants must demonstrate that training of local staff ensures their competence in providing culture and YES-specific orientation programs, appropriate enhancement activities, and quality supervision and counseling of students from participating countries. Please refer to the Solicitation Package for details on essential program elements, permissible costs, and criteria used to select students.

2. ECA anticipates grants beginning no later than September 2008.

3. Administration of the YES program must be in compliance with reporting and withholding regulations for federal, state, and local taxes as applicable.

4. Applicants should submit the health and accident insurance plans they intend to use for students on this program. Insurance can be provided through ECA's Accident and Sickness Program for Exchanges (ASPE) policy, however, if use of a grantee's private plan is proposed, the insurance coverage must be of equal or greater value.

5. All grantees are required to make an effort to recruit and include students with disabilities in the exchange. The ECA Program Office intends to award a grant to a separate organization to provide a special arrival orientation (in August 2009) and a pre-departure orientation in the spring of 2010 as well as on-going support throughout the year for the students with disabilities. These orientations are in addition to general orientations required to be conducted by the recipients of this grant who will also be expected to assist in accommodating for the timing of these special orientations.

6. All exchange participants must travel on J-1 visas using DS-2019s issued by the ECA program office under its program designation.

7. Applicants should reflect an understanding of the related youth work of various international agencies in the proposed country(ies), such as the U.S. Agency for International Development, World Bank, non-governmental organizations (NGOs) working with youth, and development foundations as a way to enhance alumni programming and provide participants with resources and support when they return home.

8. Projects should promote youth awareness of and involvement in civic and democratic processes, including respect for diversity, accountability of government, human rights, and inclusiveness of women, people with disabilities, and minorities. Proposals may include small grants to encourage alumni to utilize what they have learned while on the exchange upon their return to their home countries to promote civic education projects and community development and community service initiatives.

9. Proposals must contain letters of commitment from any foreign or domestic partners to be involved in the program, and these letters should be tailored to the activities being proposed.

Please refer to the Solicitation Package for further information, especially the Project Objectives, Goals and Implementation (POGI) and the Proposal Submission Instructions (PSI).

II. Award Information

Type of Award: Grant Agreement.

Fiscal Year Funds: 2008.

Approximate Total Funding: $18,700,000.

Approximate Number of Awards: 5-7.

Approximate Average Award: $4,500,000.

Floor of Award Range: $150,000.

Ceiling of Award Range: $9,000,000.

Anticipated Award Date: Approximately September 1, 2008.

Anticipated Project Completion Date: September 30, 2011.

Additional Information: The anticipated per participant cost is expected to be between $16,000 and $19,000 within each grant depending on the number of countries, number of students per country, special programs provided (consulting and enhancement activities), and in-country factors that may impact costs.

Pending successful implementation of this program and the availability of funds in subsequent fiscal years, it is ECA's intent to renew this grant for two additional fiscal years, before openly competing it again.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110 (Revised), Subpart C.23—Cost Sharing and Matching. In the event you do not provide the minimum amount of cost sharing as stipulated in the approved budget, ECA's contribution will be reduced in like proportion.

III.3. Other Eligibility Requirements:

(a.) Grants awarded to eligible organizations with less than four years of experience in conducting international exchange programs will be limited to $60,000. Since the minimum award is set at $150,000, proposals from organizations with less than four years of experience in conducting international exchange programs are ineligible to apply under this competition.

(b.) Technical Eligibility: All proposals must comply with the following, or they may be declared technically ineligible and given no further consideration in the review process:

• Proposed programs must include full-time U.S. high school enrollment for a semester or full academic year;

• Proposed programs may not involve multiple year exchanges or exchanges to take place other than within the dates of August 2009 and June 2010;

• Proposals must identify essential partners and include letters of commitment from partners critical to the implementation of the program.

IV. Application and Submission Information

Note: Please read the complete announcement before sending inquiries or submitting proposals. Once the RFGP deadline has passed, Bureau staff may not discuss this competition with applicants until the proposal review process has been completed.

IV.1. Contact Information to Request an Application Package: Please contact Matt O'Rourke at ECA/PE/C/PY, U.S. Department of State, SA-44, 301 4th Street, SW., Washington, DC 20547, telephone: 202-453-8170 or ORourkeMM@state.gov to request a Solicitation Package. Please refer to the Funding Opportunity Number ECA/PE/C/PY-08-27 located at the top of this announcement when making your request.

Alternatively, an electronic application package may be obtained from grants.gov. Please see section IV.3f for further information.

The Solicitation Package contains the Proposal Submission Instruction (PSI) document which consists of required application forms, and standard guidelines for proposal preparation. It also contains the Project Objectives, Goals and Implementation (POGI) document, which provides specific information, award criteria and budget instructions tailored to this competition.

For other inquiries and correspondence please contact Kevin Baker, Program Officer, tel.: 202-453-8153 or email: BakerKM1@state.gov and refer to Funding Opportunity Number ECA/PE/C/PY-08-27 that is also located at the top of this announcement.

IV.2. To Download a Solicitation Package Via Internet: The entire Solicitation Package may be downloaded from the Bureau's Web site at http://exchanges.state.gov/education/rfgps/menu.htm or from the Grants.gov Web site at http://www.grants.gov. Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and free of charge. To obtain a DUNS number, access http://www.dunandbradstreet.com or call 1-866-705-5711. Please ensure that your DUNS number is included in the appropriate box of the SF-424 which is part of the formal application package.

IV.3b. All proposals must contain an executive summary, proposal narrative and budget. Please refer to the Solicitation Package. It contains the mandatory Proposal Submission Instructions (PSI) document and the Project Objectives, Goals and Implementation (POGI) document for additional formatting and technical requirements.

IV.3c. You must have nonprofit status with the IRS at the time of application.

Please note: Effective March 14, 2008, all applicants for ECA federal assistance awards must include with their application, a copy of page 5, Part V-A, “Current Officers, Directors, Trustees, and Key Employees” of their most recent Internal Revenue Service (IRS) Form 990, “Return of Organization Exempt From Income Tax.”

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J-visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et. seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: United States Department of State, SA-44, Office of Exchange Coordination and Designation, ECA/EC/ECD, Room 734, 301 4th Street, SW., Washington, DC 20547, Telephone: (202) 203-5029, Fax: (202) 453-8640.

IV.3d.2. Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation: Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

Describe your plans for sustainability, overall program management, staffing, coordination with ECA and PAS or any other requirements etc.

IV.3e. Please take the following information into consideration when preparing your budget:

IV.3e.1. Applicants must submit a comprehensive budget for the entire program. Awards may not exceed $9,000,000. There must be a summary budget as well as breakdowns reflecting both administrative and program budgets. Applicants may provide separate sub-budgets for each program component, phase, location, or activity to provide clarification.

IV.3e.2. Required and allowable costs are provided in the accompanying POGI. Please refer to the Solicitation Package for complete budget guidelines and formatting instructions.

IV.3.f. Application Deadline and Methods of Submission: Application Deadline Date: May 29, 2008.

Reference Number: ECA/PE/C/PY-08-27.

Methods of Submission—Applications may be submitted in one of two ways:

(1.) In hard-copy, via a nationally recognized overnight delivery service (i.e., DHL, Federal Express, UPS, Airborne Express, or U.S. Postal Service Express Overnight Mail, etc.), or

(2.) Electronically through http://www.grants.gov.

Along with the Project Title, all applicants must enter the above Reference Number in Box 11 on the SF-424 contained in the mandatory Proposal Submission Instructions (PSI) of the solicitation document.

IV.3f.1. Submitting Printed Applications:

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition.

Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and seven (7) copies of the application should be sent to: U.S. Department of State, SA-44, Bureau of Educational and Cultural Affairs, Ref.: ECA/PE/C/PY-08-27, Program Management, ECA/EX/PM, Room 534, 301 4th Street, SW., Washington, DC 20547.

Applicants submitting hard-copy applications must also submit the “Executive Summary”, “Proposal Narrative”, “Budget” and “Budget Narrative” sections of the proposal electronically. ECA will provide these files to the respective Public Affairs Section at each U.S. embassy for their review.

IV.3f.2. Submitting Electronic Applications:

Applicants have the option of submitting proposals electronically through Grants.gov (http://www.grants.gov). Complete solicitation packages are available at Grants.gov in the “Find” portion of the system. Please follow the instructions available in the ‘Get Started’ portion of the site (http://www.grants.gov/GetStarted). Several of the steps in the Grants.gov registration process could take several weeks. Therefore, applicants should check with appropriate staff within their organizations immediately after reviewing this RFGP to confirm or determine their registration status with Grants.gov. Once registered, the amount of time it can take to upload an application will vary depending on a variety of factors including the size of the application and the speed of your internet connection. Therefore, we strongly recommend that you not wait until the application deadline to begin the submission process through Grants.gov. Direct all questions regarding Grants.gov registration and submission to: Grants.gov Customer Support, Contact Center Phone: 800-518-4726. Business Hours: Monday-Friday, 7 a.m.-9 p.m. EST. E-mail: support@grants.gov.

Applicants have until midnight (12 a.m.), Washington, DC time of the closing date to ensure that their entire application has been uploaded to the Grants.gov site. There are no exceptions to the above deadline. Applications uploaded to the site after midnight of the application deadline date will be automatically rejected by the Grants.gov system, and will be technically ineligible.

Applicants will receive a confirmation e-mail from Grants.gov upon the successful submission of an application. ECA will not notify you upon receipt of electronic applications.

It is the responsibility of all applicants submitting proposals via the Grants.gov web portal to ensure that proposals have been received by Grants.gov in their entirety. ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as to the appropriate Public Affairs Section overseas. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards grants resides with the Bureau's Grants Officer.

Review Criteria

Technically eligible applications will be competitively reviewed according to the criteria stated below. These criteria are not rank ordered and all carry equal weight in the proposal evaluation:

1. Quality of the program idea and planning: Proposals should exhibit originality, substance, precision, and relevance to the Bureau's mission and the purposes outlined in the solicitation. Detailed agenda and relevant work plan should demonstrate the ability to ensure that the proposed project accomplishes the stated objectives in the desired time frame. Proposals should demonstrate how students will be recruited, selected, monitored, trained and prepared for their role as YES alumni. The level of creativity, resources, and effectiveness will be primary factors for review. Proposals should be clearly and accurately written, with sufficient, relevant detail. The Narrative should address all of the items in the Statement of Work and Guidelines described above.

2. Multiplier effect/Follow-on activities: Proposed programs should strengthen long-term mutual understanding, including maximum sharing of information and establishment of long-term institutional and individual ties both during the exchange and after the participants return home. Proposals should provide a plan for continued contact with alumni to ensure that they are tracked over time, utilized and/or organized as alumni, and provided opportunities to reinforce the knowledge and skills they acquired on the exchange and share them with others.

3. Support of Diversity: Proposals should demonstrate substantive support of the Bureau's policy on diversity in all program aspects including participants (exchange students and hosts), sending and hosting communities, as well as content of orientation and program activities. Proposals should articulate a diversity plan, not just a statement of compliance.

4. Institutional Record/Capacity: Proposed personnel and institutional resources should be adequate and appropriate to achieve the program's goals. Proposals for infrastructure building should convincingly describe the need and the plan to address that need in specific terms (e.g., staffing, staff training, equipping and maintaining an office). The plan should demonstrate a thorough understanding of local requirements for establishing and registering an NGO, if necessary. Proposals should demonstrate an institutional record of successful exchange programs, including responsible fiscal management and full compliance with all reporting requirements for past ECA grants as determined by ECA Grant Staff. ECA will consider the past performance of prior recipients and the demonstrated potential of new applicants.

5. Project Evaluation: The proposal narrative must demonstrate how the applicant plans to assess the program's success in achieving program objectives and efficient operations, and what instruments will be employed to evaluate the program. Applicants may describe any experience conducting results-oriented evaluations. Successful applicants will demonstrate clear program goals and objectives as well as strategies for monitoring student and alumni progress. Grantees are also expected to submit quarterly reports that include student and alumni activities and progress.

6. Cost-effectiveness/Cost-Sharing: The overhead and administrative components of the proposal, including salaries and honoraria, should be kept as low as possible. All other items should be necessary and appropriate. Proposals should maximize cost-sharing through institutional direct funding contributions, as well as other private sector support. Preference will be given to organizations whose proposals demonstrate a quality, cost-effective program.

7. Value to U.S.-Partner Country Relations: Proposals should indicate how the program is of value to U.S. and partner countries' interests, and receive positive assessments by the U.S. Department of State's geographic area desks and overseas officers of program need, potential impact, and significance in the partner countries.

VI. Award Administration Information

VI.1a. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

All awards made under this competition must be executed according to all relevant U.S. laws and policies regarding assistance to the Palestinian Authority, and to the West Bank and Gaza. Organizations submitting proposals for this competition must consult with relevant Public Affairs Offices before entering into any formal arrangements or agreements with Palestinian organizations or institutions.

Note: To assure that planning for the inclusion of the Palestinian Authority complies with requirements, please contact Kevin Baker, Program Officer, telephone (202) 453-8153 or BakerKM1@state.gov for additional information.

VI.2. Administrative and National Policy Requirements: Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants. http://exchanges.state.gov/education/grantsdiv/terms.htm#articleI.

VI.3. Reporting Requirements: You must provide ECA with one hard copy original plus one copy of the following reports:

Mandatory:

1. Monthly school and housing placement reports of the students should be provided in the Excel spreadsheet format provided by ECA.

2. A final program and financial report no more than 90 days after the expiration of the award;

3. A concise, one-page final program report summarizing program outcomes no more than 90 days after the expiration of the award. This one-page report will be transmitted to OMB, and be made available to the public via OMB's USAspending.gov website—as part of ECA's Federal Funding Accountability and Transparency Act (FFATA) reporting requirements.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Kevin Baker, Program Officer, ECA/PE/C/PY, Room 220, Ref. Nr. ECA/PE/C/PY-08-27, U.S. Department of State, SA-44, 301 4th Street, SW., Washington, DC 20547, tel. 202-453-8153 or e-mail: BakerKM1@state.gov.

All correspondence with the Bureau concerning this RFGP should reference the program title and the corresponding Reference number.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 3, 2008.
C. Miller Crouch,
Principal Deputy Assistant Secretary, Bureau of Educational and Cultural Affairs, Department of State.

[FR Doc. E8-7631 Filed 4-9-08; 8:45 am]

BILLING CODE 4710-05-P